NUCLEAR REGULATORY COMMISSION

[Docket Nos. 52-12-COL and 52-13-COL; ASLBP No. 09-885-08-COL-BD01]

Atomic Safety and Licensing Board; In the Matter of Nuclear Innovation North America LLC (South Texas Project Units 3 and 4); Notice of Hearing; Opportunity To Submit Written Limited Appearance Statements; and Notice of Oral Argument

July 7, 2011.

Before Administrative Judges: Michael M. Gibson, Chairman, Dr. Gary S. Arnold, Dr. Randall J. Charbeneau.

The Atomic Safety and Licensing Board hereby gives notice that it will convene an evidentiary hearing to receive testimony and exhibits in the contested portion of this proceeding regarding the application of Nuclear Innovation North America LLC (NINA) for combined licenses that would authorize NINA to construct and operate two new nuclear reactor units on an existing site near Bay City, Texas. In addition, the Board gives notice that, in accordance with 10 CFR 2.315(a), it will entertain written limited appearance statements from members of the public in connection with this proceeding. Finally, the Board gives notice that it will hold oral argument on a new contention proposed by Intervenors ¹ related to foreign control.

¹ Intervenors are the Sustainable Energy and Economic Development Coalition, the South Texas Association for Responsible Energy, and Public Citizen.

A. Matters To Be Considered at Evidentiary Hearing

This evidentiary hearing will concern two environmental contentions: one related to estimating replacement power costs in the evaluation of severe accident mitigation design alternatives, the other related to accounting for energy efficient building code rules in the assessment of a need for power.

B. Date, Time, and Location of Evidentiary Hearing

The Board will conduct this evidentiary hearing ² beginning at 9:30 a.m., Central Daylight Time (CDT) on Thursday, August 18, 2011, at the Campus of the Texas Commission on Environmental Quality, Building E, Room 201S, 12100 Park 35 Circle, Austin, TX 78753. The hearing will continue day-to-day until concluded.

² NINA, NRC Staff and Intervenors will be parties to the hearing and will present witnesses and evidentiary material.

Any members of the public who plan to attend the evidentiary hearing are advised that security measures will be employed at the entrance to the facility, including searches of hand-carried items such as briefcases or backpacks.

C. Submitting Written Limited Appearance Statements

As provided in 10 CFR 2.315(a), any person (other than a party or the representative of a party to this proceeding) may submit a written statement setting forth his or her position on matters of concern relating to this proceeding. Although these statements do not constitute testimony or evidence, they nonetheless may help the Board or the parties in their consideration of the issues in this proceeding.

A written limited appearance statement may be submitted at any time and should be sent to the Office of the Secretary using one of the methods prescribed below:

Mail: Office of the Secretary, Rulemakings and Adjudications Staff, U.S. Nuclear Regulatory Commission, Washington, DC 20555-0001.

Fax: (301) 415-1101 (verification (301) 415-1966).

E-mail: hearingdocket@nrc.gov.

In addition, using the same method of service, a copy of the written limited appearance statement should be sent to the Chairman of this Licensing Board as follows:

Mail: Administrative Judge Michael M. Gibson, Atomic Safety and Licensing Board Panel, Mail Stop T-3 F23, U.S. Nuclear Regulatory Commission, Washington, DC 20555-0001.

Fax: (301) 415-5599 (verification (301) 415-7332).

E-mail: Michael.Gibson@nrc.gov and Jonathan.Eser@nrc.gov.

D. Notice of Oral Argument

The Board will hold oral argument on Intervenors' newly proffered foreign control contention beginning at 9:30 a.m. CDT on Wednesday, August 17, 2011, at the Campus of the Texas Commission on Environmental Quality, Building F, Room 2210, 12100 Park 35 Circle, Austin, TX 78753. As with hearing attendance, members of the public are welcome to attend oral argument, subject to facility security protocol.

E. Availability of Documentary Information Regarding the Proceeding

NINA's application and various Staff documents relating to the application are available on the NRC Web site at http://www.nrc.gov/reactors/new-reactors/col/south-texas-project.html.

These and other documents relating to this proceeding are available for public inspection at the Commission's Public Document Room, located at One White Flint North, 11555 Rockville Pike (first floor), Rockville, MD 20852, or electronically from the publicly available records component of NRC's document system (ADAMS). ADAMS is accessible from the NRC Web site at http://www.nrc.gov/reading-rm/adams.html (the Public Electronic Reading Room). Persons who do not have access to ADAMS or who encounter problems in accessing the documents located in ADAMS should contact the NRC Public Document Room reference staff by telephone at (800) 397-4209 or (301) 415-4737 (available between 8 a.m. and 4 p.m., Eastern Time (ET), Monday through Friday except federal holidays), or by e-mail to pdr@nrc.gov.

It is so ordered.

Dated: July 7, 2011.
For the Atomic Safety and Licensing Board.
Michael M. Gibson,
Administrative Judge, Rockville, Maryland.

[FR Doc. 2011-18826 Filed 7-25-11; 8:45 am]

BILLING CODE 7590-01-P